DEPARTMENT OF COMMERCE

International Trade Administration

[A-428-845, A-533-873, A-475-838, A-570-058, A-580-892, A-441-801, C-533-874, C-570-059]

Certain Cold-Drawn Mechanical Tubing of Carbon and Alloy Steel From Germany, India, Italy, the People's Republic of China, the Republic of Korea, and Switzerland: Continuation of Antidumping Duty Orders and Countervailing Duty Orders

AGENCY: Enforcement and Compliance, International Trade Administration, Department of Commerce.

SUMMARY: As a result of the determinations by the U.S. Department of Commerce (Commerce) and the U.S. International Trade Commission (ITC) that revocation of the antidumping duty (AD) orders on certain cold-drawn mechanical tubing of carbon and alloy steel (cold-drawn mechanical tubing) from the Federal Republic of Germany (Germany), India, Italy, the People's Republic of China (China), the Republic of Korea (Korea), and Switzerland, and the countervailing duty (CVD) orders on cold-drawn mechanical tubing from India and China would likely lead to a continuation or recurrence of dumping, countervailable subsidies, and material injury to an industry in the United States, Commerce is publishing a notice of continuation of these AD and CVD orders.

DATES: Applicable February 14, 2024.

FOR FURTHER INFORMATION CONTACT: Emily Halle or Brendan Quinn, AD/CVD Operations, Office V and Office III, respectively, Enforcement and Compliance, International Trade Administration, U.S. Department of Commerce, 1401 Constitution Avenue NW, Washington, DC 20230; telephone: (202) 482-0176 or (202) 482-2923, respectively.

SUPPLEMENTARY INFORMATION:

Background

On February 1, 2018, Commerce published in the Federal Register the CVD orders on cold-drawn mechanical tubing from India and China, and on June 11, 2018, Commerce published in the Federal Register and the AD orders on cold-drawn mechanical tubing from Germany, India, Italy, China, Korea, and Switzerland.¹ On January 3, 2023, the ITC instituted,² and Commerce initiated,³ the first sunset review of the Orders, pursuant to section 751(c) of the Tariff Act of 1930, as amended (the Act). As a result of its reviews, Commerce determined that revocation of the Orders would likely lead to continuation or recurrence of dumping and/or countervailable subsidies, and therefore, notified the ITC of the magnitude of the margins of dumping and net countervailable subsidy rates likely to prevail should the Orders be revoked.⁴

¹ See Certain Cold-Drawn Mechanical Tubing of Carbon and Alloy Steel from the People's Republic of China and India: Countervailing Duty Orders, 83 FR 4637 (February 1, 2018); Certain Cold-Drawn Mechanical Tubing of Carbon and Alloy Steel from the People's Republic of China, the Federal Republic of Germany, India, Italy, the Republic of Korea, and Switzerland: Antidumping Duty Orders; and Amended Final Determinations of Sales at Less Than Fair Value for the People's Republic of China and Switzerland, 83 FR 26962 (June 11, 2018) (collectively, Orders).

² See Cold-Drawn Mechanical Tubing from China, Germany, India, Italy, South Korea, and Switzerland; Institution of Five-Year Reviews, 88 FR 114 (January 1, 2023).

³ See Initiation of Five-Year (Sunset) Review, 88 FR 63, 64 (January 3, 2023).

⁴ See Certain Cold-Drawn Mechanical Tubing of Carbon and Alloy Steel from the People's Republic of China, the Federal Republic of Germany, India, Italy, the Republic of Korea, and Switzerland: Final Results of the Expedited First Sunset Review of the Antidumping Duty Orders, 88 FR 16587 (March 20, 2023); see also Certain Cold-Drawn Mechanical Tubing of Carbon and Alloy Steel from the People's Republic of China: Final Results of Expedited First Sunset Review of Antidumping Duty Order, 88 FR 19612 (April 3, 2023) (while the title of this Federal Register notice indicates the AD order, this Federal Register notices is in fact for the CVD order); and Certain Cold-Drawn Mechanical Tubing of Carbon and Alloy Steel from India: Final Results of the Expedited First Sunset Review of the Countervailing Duty Order, 88 FR 24386 (April 20, 2023).

On February 14, 2024, the ITC published its determination, pursuant to sections 751(c) and 752(a) of the Act, that revocation of the Orders would likely lead to continuation or recurrence of material injury to an industry in the United States within a reasonably foreseeable time.⁵

⁵ See Cold-Drawn Mechanical Tubing from China, Germany, India, Italy, South Korea, and Switzerland, 89 FR 11315 (February 14, 2024).

Scope of the Orders

The scope of the Orders covers cold-drawn mechanical tubing of circular cross-section, 304.8 mm or more in length, in actual outside diameters less than 331 mm, and regardless of wall thickness, surface finish, end finish or industry specification. The subject cold-drawn mechanical tubing is a tubular product with a circular cross-sectional shape that has been cold-drawn or otherwise cold-finished after the initial tube formation in a manner that involves a change in the diameter or wall thickness of the tubing, or both. The subject cold-drawn mechanical tubing may be produced from either welded (e.g., electric resistance welded, continuous welded, etc.) or seamless (e.g., pierced, pilgered or extruded, etc.) carbon or alloy steel tubular products. It may also be heat treated after cold working. Such heat treatments may include, but are not limited to, annealing, normalizing, quenching and tempering, stress relieving or finish annealing. Typical cold-drawing methods for subject merchandise include, but are not limited to, drawing over mandrel, rod drawing, plug drawing, sink drawing and similar processes that involve reducing the outside diameter of the tubing with a die or similar device, whether or not controlling the inside diameter of the tubing with an internal support device such as a mandrel, rod, plug or similar device. Other cold-finishing operations that may be used to produce subject merchandise include cold-rolling and cold-sizing the tubing.

Subject cold-drawn mechanical tubing is typically certified to meet industry specifications for cold-drawn tubing including but not limited to:

(1) American Society for Testing and Materials (ASTM) or American Society of Mechanical Engineers (ASME) specifications ASTM A-512, ASTM A-513 Type 3 (ASME SA513 Type 3), ASTM A-513 Type 4 (ASME SA513 Type 4), ASTM A-513 Type 5 (ASME SA513 Type 5), ASTM A-513 Type 6 (ASME SA513 Type 6), ASTM A-519 (cold-finished);

(2) SAE International (Society of Automotive Engineers) specifications SAE J524, SAE J525, SAE J2833, SAE J2614, SAE J2467, SAE J2435, SAE J2613;

(3) Aerospace Material Specification (AMS) AMS T-6736 (AMS 6736), AMS 6371, AMS 5050, AMS 5075, AMS 5062, AMS 6360, AMS 6361, AMS 6362, AMS 6371, AMS 6372, AMS 6374, AMS 6381, AMS 6415;

(4) United States Military Standards (MIL) MIL-T-5066 and MIL-T-6736;

(5) foreign standards equivalent to one of the previously listed ASTM, ASME, SAE, AMS or MIL specifications including but not limited to:

(a) German Institute for Standardization (DIN) specifications DIN 2391-2, DIN 2393-2, DIN 2394-2);

(b) European Standards (EN) EN 10305-1, EN 10305-2, EN 10305-4, EN 10305-6 and European national variations on those standards (e.g., British Standard (BS EN), Irish Standard (IS EN) and German Standard (DIN EN) variations, etc.);

(c) Japanese Industrial Standard (JIS) JIS G 3441 and JIS G 3445; and

(6) proprietary standards that are based on one of the above-listed standards.

The subject cold-drawn mechanical tubing may also be dual or multiple certified to more than one standard. Pipe that is multiple certified as cold-drawn mechanical tubing and to other specifications not covered by this scope, is also covered by the scope of these Orders when it meets the physical description set forth above.

Steel products included in the scope of these Orders are products in which: (1) iron predominates, by weight, over each of the other contained elements; and (2) the carbon content is 2 percent or less by weight.

For purposes of these scopes, the place of cold-drawing determines the country of origin of the subject merchandise. Subject merchandise that is subject to minor working in a third country that occurs after drawing in one of the subject countries including, but not limited to, heat treatment, cutting to length, straightening, nondestructive testing, deburring or chamfering, remains within the scope of the Orders.

All products that meet the written physical description are within the scope of the Orders unless specifically excluded or covered by the scope of an existing order. Merchandise that meets the physical description of cold-drawn mechanical tubing above is within the scope of the Orders even if it is also dual or multiple certified to an otherwise excluded specification listed below. The following products are outside of, and/or specifically excluded from, the scope of these Orders:

(1) Cold-drawn stainless steel tubing, containing 10.5 percent or more of chromium by weight and not more than 1.2 percent of carbon by weight;

(2) products certified to one or more of the ASTM, ASME or American Petroleum Institute (API) specifications listed below:

ASTM A-53;

ASTM A-106;

ASTM A-179 (ASME SA 179);

ASTM A-192 (ASME SA 192);

ASTM A-209 (ASME SA 209);

ASTM A-210 (ASME SA 210);

ASTM A-213 (ASME SA 213);

ASTM A-334 (ASME SA 334);

ASTM A-423 (ASME SA 423);

ASTM A-498;

ASTM A-496 (ASME SA 496);

ASTM A-199;

ASTM A-500;

ASTM A-556;

ASTM A-565;

API 5L; and

API 5CT

except that any cold-drawn tubing product certified to one of the above excluded specifications will not be excluded from these scopes if it is also dual- or multiple-certified to any other specification that otherwise would fall within the scope of these Orders.

The products subject to these Orders are currently classified in the Harmonized Tariff Schedule of the United States (HTSUS) under item numbers: 7304.31.3000, 7304.31.6050, 7304.51.1000, 7304.51.5005, 7304.51.5060, 7306.30.5015, 7306.30.5020, 7306.50.5030. Subject merchandise may also enter under numbers 7306.30.1000 and 7306.50.1000. The HTSUS subheadings above are provided for convenience and customs purposes only. The written description of the scope of these Orders is dispositive.

Continuation of the Orders

As a result of the determinations by Commerce and the ITC that revocation of the Orders would likely lead to a continuation or a recurrence of dumping and/or countervailable subsidies, and material injury to an industry in the United States, pursuant to section 751(d)(2) of the Act and 19 CFR 351.218(a), Commerce hereby orders the continuation of the Orders. U.S. Customs and Border Protection will continue to collect AD and CVD cash deposits at the rates in effect at the time of entry for all imports of subject merchandise.

The effective date of the continuation of the Orders will be February 14, 2024. Pursuant to section 751(c)(2) of the Act and 19 CFR 351.218(c)(2), Commerce intends to initiate the next five-year review of the Orders no later than 30 days prior to the fifth anniversary of the date of the last determination by the ITC.

Administrative Protective Order

This notice also serves as the only reminder to parties subject to an administrative protective order (APO) of their responsibility concerning the return, destruction, or conversion to judicial protective order of proprietary information disclosed under APO in accordance with 19 CFR 351.305(a)(3). Timely written notification of the return or destruction of APO materials or conversion to judicial protective order is hereby requested. Failure to comply is a violation of the APO which may be subject to sanctions.

Notification to Interested Parties

These five-year sunset reviews and this notice are in accordance with sections 751(c) and 751(d)(2) of the Act and published in accordance with section 777(i)(1) of the Act and 19 CFR 351.218(f)(4).

Dated: February 16, 2024.
Ryan Majerus,
Deputy Assistant Secretary for Policy and Negotiations, Performing the Non-exclusive Functions and Duties of the Assistant Secretary for Enforcement and Compliance.

[FR Doc. 2024-03684 Filed 2-22-24; 8:45 am]

BILLING CODE 3510-DS-P